FEDERAL COMMUNICATIONS COMMISSION

47 CFR Part 1

[MD Docket No. 20-270; FCC 22-94; FR ID 139226]

Schedule of Application Fees; Correction

AGENCY: Federal Communications Commission.

ACTION: Correcting amendments.

SUMMARY: On January 31, 2023, the Federal Communications Commission (Commission) revised the Commission's rules. That document had two clerical errors in the fee amounts for two types of Commercial AM Radio Stations applications: Minor Modification, Construction Permit and New License. This document is submitted to correct the final regulations.

DATES: Effective May 8, 2023.

FOR FURTHER INFORMATION CONTACT: Roland Helvajian, Office of Managing Director, at (202) 418-0444.

SUPPLEMENTARY INFORMATION: This is a summary of the FCC's Erratum, FCC 22-94, published January 31, 2023 (88 FR 6169). This is the first set of corrections.

List of Subjects in 47 CFR Part 1

Administrative practices and procedures.

Accordingly, 47 CFR part 1 is corrected by making the following correcting amendments:

PART 1—PRACTICE AND PROCEDURE

1. The authority citation for part 1 continues to read as follows:

Authority: 47 U.S.C. chs. 2, 5, 9, 13; 28 U.S.C. 2461 note, unless otherwise noted.

2. In § 1.1104, revise Table 2, Commercial AM radio stations, to read as follows:

§ 1.1104 Schedule of charges for applications and other filings for media services.

* * * * *

Table 2 to § 1.1104
Commercial AM radio stations: Type of application | Commercial AM radio stations: Payment type code | Commercial AM radio stations: Fee amount
New or Major Change, Construction Permit | MUR | $4,440/application.
New or Major Change, Construction Permit | MVR | $5,085/application.
Minor Modification, Construction Permit | MVU | $1,815/application.
New License | MMR | $720/application.
AM Directional Antenna | MOR | $1,405/application.
License Renewal | MGR | $365/application.
License Assignment (2100 Schedule 314 & 159 (long form) | MPR | $1,120/station.
License Assignment (2100 Schedule 316 & 159 (short form) | MDR | $475/station.
Transfer of Control (2100 Schedule 315 & 159 (long form) | MPR | $1,120/station.
Transfer of Control (2100 Schedule 316 & 159 (short form) | MDR | $475/station.
Call Sign | MBR | $190/application.
Special Temporary Authority | MVV | $325/application.
Biennial Ownership Report | MAR | $95/station.

* * * * *

Federal Communications Commission.
Marlene Dortch,
Secretary.

[FR Doc. 2023-09372 Filed 5-5-23; 8:45 am]

BILLING CODE 6712-01-P